DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Seafood Inspection and Certification Requirements.

OMB Control Number: 0648-0266.

Form Number(s): 89-800, 89-814, 89-819.

Type of Request: Regular (extension of a currently approved information collection).

Number of Respondents: 350.

Average Hours per Response: Contract Request, 15 minutes; label approval, 15 minutes; Inspection Request, 30 minutes.

Burden Hours: 19,728.

Needs and Uses: This request is for extension of a currently approved information collection.

The National Marine Fisheries Service (NMFS) operates a voluntary fee-for-service seafood inspection program (Program) under the authorities of the Agricultural Marketing Act of 1946, as amended, the Fish and Wildlife Act of 1956, and the Reorganization Plan No. 4 of 1970. The regulations for the Program are contained in 50 CFR part 260. The program offers inspection grading and certification services, including the use of official quality grade marks which indicate that specific products have been Federally inspected. Those wishing to participate in the program must request the services and submit specific compliance information. In July 1992, NMFS announced new inspection services, which were fully based on guidelines recommended by the National Academy of Sciences, known as Hazard Analysis Critical Control Point (HACCP). The information collection requirements fall under § 260.15 of the regulations. These guidelines required that a facility's quality control system have a written plan of the operation, identification of control points with acceptance criteria and a corrective action plan, as well as identified personnel responsible for oversight of the system.

Affected Public: Business or other for-profit organizations; not-for-profit institutions; state, local or tribal government.

Frequency: On occasion.

Respondent's Obligation: Required to obtain or maintain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 3, 2018.
Sarah Brabson,
NOAA PRA Clearance Officer.

[FR Doc. 2018-16934 Filed 8-7-18; 8:45 am]

BILLING CODE 3510-22-P